DEPARTMENT OF HOMELAND SECURITY

Coast Guard

33 CFR Part 117

[Docket No. USCG-2017-0722]

Drawbridge Operation Regulation; Housatonic River, Stratford, CT

AGENCY: Coast Guard, DHS.

ACTION: Notice of deviation from drawbridge regulation.

SUMMARY: The Coast Guard has issued a temporary deviation from the operating schedule that governs the Metro-North (Devon) Bridge across the Housatonic River, mile 3.9, at Stratford, Connecticut. The deviation is necessary to complete repairs to the movable span and allows the bridge to remain in the closed position for approximately one month during weekdays and weeknights while opening during weekends if provided 24 hours of advance notice.

DATES: This deviation is effective from 8 a.m. on September 11, 2017 to 2 p.m. on October 6, 2017.

ADDRESSES: The docket for this deviation, USCG-2017-0722 is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone (212) 514-4334, email James.M.Moore2@uscg.mil.

SUPPLEMENTARY INFORMATION: The Connecticut Department of Transportation, on behalf of Metro-North Railroad, the owner of the bridge, requested a temporary deviation in order to facilitate repairs to the headblocks in the movable span.

The Metro-North (Devon) Bridge across the Housatonic River, mile 3.9 at Stratford, Connecticut offers mariners a vertical clearance of 19 feet at mean high water and 25 feet at mean low water in the closed position. Horizontal clearance is 83 feet. The existing drawbridge regulations are listed at 33 CFR 117.207(b).

This temporary deviation will allow the draw of the Devon Railroad Bridge to remain closed on weekdays on a weekly basis from 8 a.m. September 11, 2017 through 2 p.m. October 6, 2017 with openings offered on weekends when 24 hours of advance notice is provided.

Under this temporary deviation the Metro-North (Devon) Bridge will operate as follows:

a. The draw will remain closed for all vessels that would otherwise require and opening from 8 a.m. on Monday, September 11, 2017, through 2 p.m. Friday, September 15, 2017. This closure will repeat Monday through Friday of each week until October 6, 2017.

b. The draw will open on 24 hours advance notice for all vessels requiring such an opening from 2 p.m. on Friday, September 15, 2017 through 8 a.m. on Monday, September 18, 2017, and repeat each Friday through Monday of each weekend until October 2, 2017.

The waterway is largely transited by seasonal recreational traffic. Vessels able to pass through the bridge in the closed position may do so at anytime. The bridge will not be able to open for emergencies and there is no immediate alternate route for vessels to pass. The Coast Guard will inform waterway users through our Local and Broadcast Notices to Mariners of the change in operating schedule for the bridge so vessel operators are allowed the opportunity to arrange their transits so as to minimize any impact caused by the temporary deviation.

In accordance with 33 CFR 117.35(e), the drawbridge must return to its regular operating schedule immediately at the end of the effective period of this temporary deviation. This deviation from the operating regulations is authorized under 33 CFR 117.35.

Dated: August 10, 2017.
Christopher J. Bisignano,
Supervisory Bridge Management Specialist, First Coast Guard District.

[FR Doc. 2017-17201 Filed 8-14-17; 8:45 am]

BILLING CODE 9110-04-P